NATIONAL ARCHIVES AND RECORDS ADMINISTRATION

Nixon Presidential Historical Materials: Opening of Materials

AGENCY: National Archives and Records Administration.

ACTION: Notice of Opening of Additional Materials.

SUMMARY: This notice announces the opening of additional Nixon Presidential Historical Materials by the Richard Nixon Presidential Library and Museum, a division of the National Archives and Records Administration. Notice is hereby given that, in accordance with section 104 of Title I of the Presidential Recordings and Materials Preservation Act (PRMPA, 44 U.S.C. 2111 note) and 1275.42(b) of the PRMPA Regulations implementing the Act (36 CFR part 1275), the Agency has identified, inventoried, and prepared for public access additional textual materials with certain information redacted as required by law, including the PRMPA.

DATES: The Richard Nixon Presidential Library and Museum intends to make the materials described in this notice available to the public on Tuesday, June 26, 2012, at the Richard Nixon Library and Museum's primary location in Yorba Linda, CA, beginning at 9:30 a.m. PDT/12:30 p.m. EDT. In accordance with 36 CFR 1275.44, any person who believes it necessary to file a claim of legal right or privilege concerning access to these materials must notify the Archivist of the United States in writing of the claimed right, privilege, or defense within 30 days of the publication of this notice.

ADDRESSES: The Richard Nixon Presidential Library and Museum, a division of the National Archives, is located at 18001 Yorba Linda Blvd., Yorba Linda, CA. Researchers must have a NARA researcher card, which they may obtain when they arrive at the Library. Selections from these materials will be available at www.nixonlibrary.gov. Petitions asserting a legal or constitutional right or privilege that would prevent or limit public access to the materials must be sent to the Archivist of the United States, National Archives at College Park, 8601 Adelphi Rd., College Park, Maryland 20740-6001.

FOR FURTHER INFORMATION CONTACT: Paul Wormser, Acting Director, Richard Nixon Presidential Library and Museum, 714-983-9119.

SUPPLEMENTARY INFORMATION: The following materials will be made available in accordance with this notice:

1. Previously restricted textual materials. Volume: 14 cubic feet. A number of textual materials previously withheld from public access have been reviewed for release and/or declassified under the systematic declassification review provisions and under the mandatory review provisions of Executive Order 13526, the Freedom of Information Act (5 U.S.C. 552), or in accordance with 36 CFR 1275.56 (Public Access regulations). The materials are from integral file segments for the National Security Council (NSC Files and NSC Institutional Files); the Henry A. Kissinger (HAK) Office Files, including HAK telephone conversation transcripts, along with the White House Central Files: Staff Member and Office Files, Anne Armstrong; and White House Central Files: Subject Files, Confidential Files, FG 6-11-1/Peter Flanigan.

2. White House Central Files, Staff Member and Office Files. Volume: 67 cubic feet. The White House Central Files Unit was a permanent organization within the White House complex that maintained a central filing and retrieval system for the records of the President and his staff. The Staff Member and Office Files consist of materials that were transferred to the Central Files but were not incorporated into the Subject Files. The following file groups will be made available: First Lady's Press Office.

3. White House Central Files, Name Files: Volume: 2 cubic feet. The Name Files were used for routine materials filed alphabetically by the name of the correspondent; copies of documents in the Name Files were usually filed by subject in the Subject Files. The following Name Files folders will be made available: A-Abbot, B; Wilcox, J.; Thimmesch, Nick; Hoffer; Rozell; Johnson, Lyndon B. Mr. & Mrs.

4. Sub-Cabinet MUG File: Volume 1 cubic foot. A collection of 8x10 photographic prints collected from Federal government departments and agencies during the Richard Nixon Administration, depicting presidential sub-cabinet personnel. These materials were collected by the Office of Presidential Papers and Archives (OPPA) to assist in the identification of individuals. OPPA Staff Director, Jack Nesbitt collected the photographs.

Dated: May 16, 2012.
David Ferriero,
Archivist of the United States.

[FR Doc. 2012-12622 Filed 5-24-12; 8:45 am]

BILLING CODE 7515-01-P